DEPARTMENT OF COMMERCE

International Trade Administration

(A-583-831)

Stainless Steel Sheet and Strip in Coils from Taiwan: Extension of Time Limit for Final Results of Antidumping Duty Administrative Review

AGENCY: Import Administration, International Trade Administration, Department of Commerce.

EFFECTIVE DATE: November 16, 2005.

FOR FURTHER INFORMATION CONTACT: Karine Gziryan or Melissa Blackledge, AD/CVD Operations, Office 4, Import Administration, International Trade Administration, U.S. Department of Commerce, 14th Street and Constitution Avenue, NW., Washington, DC 20230; telephone (202) 482-4081 or (202) 482-3518, respectively.

SUPPLEMENTARY INFORMATION:

Background

On August 30, 2004, the Department of Commerce (the Department) published in the Federal Register a notice of initiation of an administrative review of the antidumping duty order on stainless steel sheet and strip in coils from Taiwan, covering the period July 1, 2003, through June 30, 2004. See Initiation of Antidumping and Countervailing Duty Administrative Reviews and Requests for Revocation in Part, 69 FR 52857 (August 30, 2004).

On August 9, 2005, the Department published in the Federal Register the preliminary results of review. See Stainless Steel Sheet and Strip in Coils from Taiwan: Notice of Preliminary Results and Partial Rescission of Antidumping Duty Administrative Review, 70 FR 46137 (August 9, 2005). The final results of review are currently due no later than December 7, 2005.

Extension of Time Limit for Final Results of Review

Section 751(a)(3)(A) of the Tariff Act of 1930, as amended (the Act), requires the Department to make a preliminary determination in an administrative review within 245 days after the last day of the anniversary month of an order or finding for which a review is requested and a final determination within 120 days after the date on which the preliminary determination is published. However, if it is not practicable to complete the review within these time periods, section 751(a)(3)(A) of the Act allows the Department to extend the 245-day time limit for the preliminary determination to a maximum of 365 days and the time limit for the final determination to 180 days (or 300 days if the Department does not extend the time limit for the preliminary determination) from the date of publication of the preliminary determination. We have determined that it is not practicable to complete the final results of this review within the original time limit because the Department has required additional time to consider a number of complex affiliation and cost issues. Therefore, the Department is extending the time limit for completion of the final results of review by 60 days. We intend to issue the final results of review no later than February 5, 2006.

This extension is in accordance with section 751(a)(3)(A) of the Act.

Dated: November 8, 2005.
Stephen J. Claeys,
Deputy Assistant Secretary for Import Administration.

[FR Doc. E5-6328 Filed 11-15-05; 8:45 am]

BILLING CODE 3510-DS-S